COMMODITY FUTURES TRADING COMMISSION

Privacy Act of 1974; System of Records

AGENCY: Commodity Futures Trading Commission.

ACTION: Notice of a modified system of records.

SUMMARY: The Commodity Futures Trading Commission (CFTC or Commission) is modifying CFTC-50, LabCFTC, a system of records under the Privacy Act of 1974.

DATES: In accordance with 5 U.S.C. 552(e)(4) and (11), this notice will go in to effect without further notice on November 3, 2020 unless otherwise revised pursuant to comments received. New routine uses will go in to effect on December 3, 2020. Comments must be received on or before December 3, 2020.

ADDRESSES: You may submit comments identified as pertaining to “LabCFTC” by any of the following methods:

• CFTC Website: https://comments.cftc.gov. Follow the instructions for submitting comments through the Comments Online process on the website.

• Mail: Christopher J. Kirkpatrick, Secretary of the Commission, Commodity Futures Trading Commission, Three Lafayette Centre, 1155 21st Street NW, Washington, DC 20581.

• Hand Delivery/Courier: Same as Mail, above.

Please submit your comments using only one method.

All comments must be submitted in English, or if not, accompanied by an English translation. Comments will be posted as received to https://www.cftc.gov. You should submit only information that you wish to make available publicly. If you wish the Commission to consider information that you believe is exempt from disclosure under the Freedom of Information Act (FOIA), a petition for confidential treatment of the exempt information may be submitted according to the procedures established in § 145.9 of the Commission's regulations, 17 CFR 145.9.

The Commission reserves the right, but shall have no obligation, to review, pre-screen, filter, redact, refuse, or remove any or all of a submission from https://www.cftc.gov that it may deem to be inappropriate for publication, such as obscene language. All submissions that have been redacted or removed that contain comments on the merits of the notice will be retained in the comment file and will be considered as required under all applicable laws, and may be accessible under the FOIA.

FOR FURTHER INFORMATION CONTACT: Chief Privacy Officer, Charlie Cutshall, 202-418-5833, privacy@cftc.gov, Office of the Executive Director, Commodity Futures Trading Commission, Three Lafayette Centre, 1155 21st Street NW, Washington, DC 20581.

SUPPLEMENTARY INFORMATION: In service to the CFTC's goal of encouraging innovation and enhancing the regulatory experience for market participants at home and abroad, the CFTC established LabCFTC, an official operating office that reports directly to the Chairman of the Commission. LabCFTC's mission is to promote responsible innovation among the financial industry, stakeholders, and policymakers by:

• Advancing policy and regulation in financial innovation;

• Facilitating dialogue between innovators and those within the CFTC on financial and technological innovations;

• Educating internal and external stakeholders on financial technology and innovation in the financial markets to identify how innovations are being used; and

• Coordinating internally and externally with International, Federal, and State regulators, organizations, and associations.

LabCFTC is designed to make the CFTC more accessible to FinTech innovators and serves as a platform to inform the Commission's understanding of new technologies. LabCFTC allows FinTech innovators to engage with the CFTC, learn about the CFTC's regulatory framework, and obtain feedback and information on the implementation of innovative technology ideas for the market. Further, LabCFTC functions as an information source for the Commission and CFTC staff on responsible FinTech innovation that may influence policy development. LabCFTC allows FinTech innovators to engage with the CFTC, learn about the CFTC's regulatory framework, and obtain feedback and information on the implementation of innovative technology ideas for the market.

I. Modifications to CFTC-50, LabCFTC

The Commodity Futures Trading Commission (CFTC or Commission) is modifying CFTC-50, LabCFTC, a system of records under the Privacy Act of 1974, to include information collected under the American Innovation and Competitiveness Act (AICA), Public Law 114-329. The notice modifies the categories of individuals to include individuals participating in and supporting competitions and adds two routine uses to cover—(1) the disclosure of records to competition judges and (2) to cover the disclosure of competition results to the public. In addition, the Commission is taking this opportunity to update the policies and practices for retention and disposal of records to include the disposition authority number.

II. The Privacy Act

Under the Privacy Act of 1974, 5 U.S.C. 552a, a “system of records” is defined as any group of records under the control of a Federal government agency from which information about individuals is retrieved by name or by some identifying number, symbol, or other identifying particular assigned to the individual. The Privacy Act establishes the means by which government agencies must collect, maintain, and use information about an individual in a government system of records.

Each government agency is required to publish a notice in the Federal Register in which the agency identifies and describes each system of records it maintains, the reasons why the agency uses the information therein, the routine uses for which the agency will disclose such information outside the agency, and how individuals may exercise their rights under the Privacy Act.

In accordance with 5 U.S.C. 552a(r), CFTC has provided a report of this modified system of records to the Office of Management and Budget and to Congress.

SYSTEM NAME AND NUMBER:

LabCFTC; CFTC-50.

SECURITY CLASSIFICATION:

Unclassified.

SYSTEM LOCATION:

This system is located at the Commodity Futures Trading Commission, Three Lafayette Centre, 1155 21st Street NW, Washington, DC 20581.

SYSTEM MANAGER(S):

Office of the Charmain, Commodity Futures Trading Commission, Three Lafayette Centre, 1155 21st Street NW, Washington, DC 20581.

AUTHORITY FOR MAINTENANCE OF THE SYSTEM:

The collection of this information is authorized under 7 U.S.C. 5(b), and the rules promulgated thereunder. Information collected to facilitate competitions is authorized under the American Innovation and Competitiveness Act (AICA) Public Law 114-329.

PURPOSE(S) OF THE SYSTEM:

The information in the system is being collected to assist CFTC in communicating with interested parties to encourage responsible FinTech innovation in the markets CFTC oversees and to help accelerate Commission engagement with FinTech solutions that enable the CFTC to carry out its mission responsibilities more effectively and efficiently. The information collected facilitates communications between FinTech innovators and the CFTC to enable innovators to learn about the CFTC's regulatory framework and to obtain feedback and information on the implementation of technology ideas for the market. This information also may help initiate the adoption of new technology within the CFTC's own mission activities through collaboration with FinTech industry and CFTC market participants.

CATEGORIES OF INDIVIDUALS COVERED BY THE SYSTEM:

Individuals covered by this system include individuals submitting requests or inquiries and other information to CFTC through LabCFTC and individuals participating in, and supporting competitions held by LabCFTC.

CATEGORIES OF RECORDS IN THE SYSTEM:

The system of records includes information that contains: Individual's name, physical address, telephone numbers (work, home, mobile), email addresses, employer, job title, relevant work experience, CFTC status (registrant, non-registrant), organization type (S Corporation, Limited Liability Corporation, etc.), and other business, business partner, or technology information that may be linked or linkable to an individual.

RECORD SOURCE CATEGORIES:

Information in this system is obtained directly from the individual who is submitting the information.

ROUTINE USES OF RECORDS MAINTAINED IN THE SYSTEM, INCLUDING CATEGORIES OF USERS AND THE PURPOSES OF SUCH USES:

These records and information in these records may be used: (a) To disclose information to other financial regulators to facilitate regulatory discussions around technology innovations; (b) To disclose information to external committees that advise the CFTC on the impact and implications of technological innovations on financial services and the derivatives markets; (c) to disclose during conferences or other events consistent within the purpose of 7 U.S.C. 5(b); (d) To disclose to competition judges who may include: staff from other federal agencies, or regulatory authorities (state, non-US government, inter-governmental); business/industry participants; academics; and individual experts; (e) To disclose certain competition result information to the public; (f) To disclose in any administrative proceeding before the Commission, in any injunctive action authorized under the Commodity Exchange Act, or in any other action or proceeding in which the Commission or its staff participates as a party or the Commission participates as amicus curiae; (g) To disclose to Federal, State, local, territorial, Tribal, or foreign agencies for use in meeting their statutory or regulatory requirements; (h) To disclose to any “registered entity,” as defined in section 1a of the Commodity Exchange Act, 7 U.S.C. 1, et seq. (“the Act”), to the extent disclosure is authorized and will assist the registered entity in carrying out its responsibilities under the Act. Information may also be disclosed to any registered futures association registered under section 17 of the Act to assist it in carrying out its self-regulatory responsibilities under the Act, and to any national securities exchange or national securities association registered with the Securities and Exchange Commission to assist those organizations in carrying out their self-regulatory responsibilities under the Securities Exchange Act of 1934, 15 U.S.C. 78a, et seq.; (i) To disclose to anyone during the course of a Commission investigation if Commission staff has reason to believe that the person to whom it is disclosed may have further information about matters relevant to the subject of the investigation; (j) To disclose in a public report issued by the Commission following an investigation, to the extent that the disclosure is authorized under section 8 of the Commodity Exchange Act, 7 U.S.C. 12; (k) To disclose to contractors, grantees, volunteers, experts, students, and others performing or working on a contract, service, grant, cooperative agreement, or job for the Federal government when necessary to accomplish an agency function; (l) To disclose to Congress upon its request, acting within the scope of its jurisdiction, pursuant to the Commodity Exchange Act, 7 U.S.C. 1 et seq., and the rules and regulations promulgated thereunder; (m) To disclose to appropriate agencies, entities, and persons when (1) the Commission suspects or has confirmed that there has been a breach of the system of records; (2) the Commission has determined that as a result of the suspected or confirmed breach there is a risk of harm to individuals, the Commission (including its information systems, programs, and operations), the Federal Government, or national security; and (3) the disclosure made to such agencies, entities, and persons is reasonably necessary to assist in connection with the Commission's efforts to respond to the suspected or confirmed breach or to prevent, minimize, or remedy such harm; or (n) To disclose to another Federal agency or Federal entity, when the Commission determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

POLICIES AND PRACTICES FOR STORAGE OF RECORDS:

The LabCFTC system of records stores records in this system electronically or on paper in secure facilities. Electronic records are stored on the Commission's secure network and other electronic media as needed, such as encrypted hard drives and back-up media.

POLICIES AND PRACTICES FOR RETRIEVAL OF RECORDS:

Information covered by this system of records notice may be retrieved by name, email address, physical address, or other unique individual identifiers using a keyword search.

POLICIES AND PRACTICES FOR RETENTION AND DISPOSAL OF RECORDS:

Records in this system will be maintained in accordance with the External Outreach—Education, Awareness, and Innovation records schedule, which requires that records be closed at the end of the calendar year and then destroyed seven years after closed. The disposition authority number is DAA-0180-2018-0007-0002.

ADMINISTRATIVE, TECHNICAL, AND PHYSICAL SAFEGUARDS:

Records are protected from unauthorized access and improper use through administrative, technical, and physical security measures. Administrative safeguards include written guidelines on handling LabCFTC information. All CFTC personnel are subject to CFTC agency-wide procedures for safeguarding personally identifiable information and receive annual privacy and security training. Technical security measures within CFTC include restrictions on computer access to authorized individuals who have a legitimate need to know the information; required use of strong passwords that are frequently changed; multi-factor authentication for remote access and access to many CFTC network components; use of encryption for certain data types and transfers; firewalls and intrusion detection applications; and regular review of security procedures and best practices to enhance security. The technology also has a time-out function that requires users to re-access and input information if the time limit expires. Physical safeguards include restrictions on building access to authorized individuals, 24-hour security guard service, and maintenance of records in lockable offices and filing cabinets.

RECORD ACCESS PROCEDURES:

Individuals seeking to determine whether this system of records contains information about themselves or seeking access to records about themselves in this system of records should address written inquiries to the Office of General Counsel, Commodity Futures Trading Commission, Three Lafayette Centre, 1155 21st Street NW, Washington, DC 20581. See 17 CFR 146.3 for full details on what to include in a Privacy Act access request.

CONTESTING RECORD PROCEDURES:

Individuals contesting the content of records about themselves contained in this system of records should address written inquiries to the Office of General Counsel, Commodity Futures Trading Commission, Three Lafayette Centre, 1155 21st Street NW, Washington, DC 20581. See 17 CFR 146.8 for full details on what to include in a Privacy Act amendment request.

NOTIFICATION PROCEDURES:

Individuals seeking notification of any records about themselves contained in this system of records should address written inquiries to the Office of General Counsel, Commodity Futures Trading Commission, Three Lafayette Centre, 1155 21st Street NW, Washington, DC 20581. See 17 CFR 146.3 for full details on what to include in a Privacy Act notification request.

EXEMPTIONS PROMULGATED FOR THE SYSTEM:

None.

HISTORY:

A previous version of this SORN was published in the Federal Register on January 2, 2018 at 83 FR 104.

Issued in Washington, DC, on October 29, 2020, by the Commission.
Robert Sidman,
Deputy Secretary of the Commission.

[FR Doc. 2020-24351 Filed 11-2-20; 8:45 am]

BILLING CODE 6351-01-P